DEPARTMENT OF TRANSPORTATION

Federal Aviation Administration

14 CFR Part 39

[Docket No. 2004-NE-11-AD; Amendment 39-13922; AD 2004-26-10]

RIN 2120-AA64

Airworthiness Directives; Rolls-Royce Deutschland (RRD) (Formerly Rolls-Royce, plc) Tay 611-8, Tay 620-15, Tay 620-15/20, Tay 650-15, Tay 650-15/10, and Tay 651-54 Turbofan Engines

AGENCY: Federal Aviation Administration (FAA), DOT.

ACTION: Final rule; request for comments.

SUMMARY: The FAA is superseding an existing airworthiness directive (AD) for certain RRD Tay 611-8, Tay 620-15, Tay 620-15/20, Tay 650-15, Tay 650-15/10, and Tay 651-54 turbofan engines with ice-impact panels installed in the low pressure (LP) compressor case. That AD currently requires visually inspecting all ice-impact panels and fillers in the LP compressor case for certain conditions, and if necessary, replacing any ice-impact panels and fillers that have those conditions. This AD requires initial and repetitive visual inspections of all ice-impact panels and fillers in the LP compressor case for certain conditions and replacing as necessary, any or all panels. This AD also introduces a new compliance date of no later than March 1, 2005, to have all but one engine on each airplane in compliance with the polysulfide bonding of panels. This AD results from RRD issuing two service bulletins since AD 2004-05-22 was published, that required repetitive visual inspections of panels, and defines a minimum configuration and repair standard. We are issuing this AD to prevent release of ice-impact panels due to improper bonding that can result in loss of thrust in both engines.

DATES: Effective January 21, 2005. The Director of the Federal Register approved the incorporation by reference of certain publications listed in the regulations as of January 21, 2005.

We must receive any comments on this AD by March 7, 2005.

ADDRESSES: Use one of the following addresses to comment on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

Contact Rolls-Royce Deutschland Ltd & Co KG, Eschenweg 11, D-15827 Dahlewitz, Germany; telephone 49 (0) 33-7086-1768; fax 49 (0) 33-7086-3356, for the service information referenced in this AD. You may examine the comments on this AD in the AD docket on the Internet at http://dms.dot.gov.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION: On March 3, 2004, the FAA issued AD 2004-05-22, Amendment 39-13517 (69 FR 11305, March 10, 2004). That AD requires visually inspecting all LP compressor case ice-impact panels and fillers that conform to the RR Service Bulletin (SB) No. TAY-72-1326 standard or were repaired using RR repair scheme TV5451R or HRS3491, for certain conditions. That AD also requires replacing any ice-impact panels and fillers that have those conditions, if necessary. That AD was the result of two reported events of ice-impact panels that released during flight, one of which resulted in reduction of power in both engines. That condition, if not corrected, could result in release of ice-impact panels due to improper bonding that can result in loss of thrust in both engines.

Actions Since AD 2004-05-22 Was Issued

Since AD 2004-5-22 was issued, RRD issued two SBs that supersede the existing SBs used in that AD. The new SBs require initial and repetitive visual inspections of all LP compressor case ice-impact panels and fillers that conform to RR SB No. TAY-72-1326, or were repaired using RR repair scheme TV5451R or HRS3491, for certain conditions. The new SBs also require bonding of replacement ice-impact panels using polysulfide bonding. Also, the new SBs introduce a new compliance date of no later than March 1, 2005, to have all but one engine on each airplane in compliance with the polysulfide bonding of panels.

Relevant Service Information

We have reviewed and approved the technical contents of RRD SB No. TAY-72-1638, Revision 2, dated September 21, 2004, and RRD SB No. TAY-72-1639, Revision 2, dated September 21, 2004, that are described in the previous paragraph. The Luftfahrt-Bundesamt (LBA), which is the airworthiness authority for Germany, classified these SBs as mandatory and issued AD D2004-313R2, dated September 21, 2004, in order to ensure the airworthiness of these RRD engines in Germany.

Bilateral Airworthiness Agreement

This engine model is manufactured in the United Kingdom (U.K). and is type certificated for operation in the United States under the provisions of section 21.29 of the Federal Aviation Regulations (14 CFR 21.29) and the applicable bilateral airworthiness agreement. Under this bilateral airworthiness agreement, the Civil Aviation Authority (CAA), which is the airworthiness authority for the U.K., has kept the FAA informed of the situation described above. We have examined the findings of the CAA, reviewed all available information, and determined that AD action is necessary for products of this type design that are certificated for operation in the United States.

FAA's Determination and Requirements of This AD

The unsafe condition described previously is likely to exist or develop on other RRD Tay 611-8, Tay 620-15, Tay 620-15/20, Tay 650-15, Tay 650-15/10, and Tay 651-54 turbofan engines of the same type design. We are issuing this AD to prevent release of ice-impact panels due to improper bonding that can result in loss of thrust in both engines. This AD requires the following:

• Initial and repetitive visual inspections of all ice-impact panels and fillers in the LP compressor case for certain conditions and replacing any or all panels, based on condition.

• Bonding of replacement ice-impact panels using polysulfide bonding.

• Introduction of a new compliance date of no later than March 1, 2005, to have all but one engine on each airplane in compliance with the polysulfide bonding of panels.

You must use the service information described previously to perform the actions required by this AD.

FAA's Determination of the Effective Date

Since an unsafe condition exists that requires the immediate adoption of this AD, we have found that notice and opportunity for public comment before issuing this AD are impracticable, and that good cause exists for making this amendment effective in less than 30 days.

Interim Action

These actions are interim actions and we may take further rulemaking actions in the future.

Comments Invited

This AD is a final rule that involves requirements affecting flight safety and was not preceded by notice and an opportunity for public comment; however, we invite you to submit any written relevant data, views, or arguments regarding this AD. Send your comments to an address listed under ADDRESSES. Include “AD Docket No. 2004-NE-11-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

Examining the AD Docket

You may examine the AD Docket (including any comments and service information), by appointment, between 8 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-NE-11-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-13517 (69 FR 11305, March 10, 2004), and by adding a new airworthiness directive, Amendment 39-13922, to read as follows:

2004-26-10 Rolls-Royce Deutschland (RRD) (Formerly Rolls-Royce, plc): Amendment 39-13922. Docket No. 2004-NE-11-AD. Supersedes AD 2004-05-22, Amendment 39-13517.

Effective Date

(a) This airworthiness directive (AD) becomes effective January 21, 2005.

Affected ADs

(b) This AD supersedes AD 2004-05-22, Amendment 39-13517.

Applicability

(c) This AD applies to RRD Tay 611-8, Tay 620-15, Tay 620-15/20, Tay 650-15, Tay 650-15/10, and Tay 651-54 turbofan engines that have one or more ice-impact panels installed in the low pressure (LP) compressor case that conform to the Rolls-Royce, plc (RR) Service Bulletin (SB) No. TAY-72-1326 standard. These engines are installed on, but not limited to, Fokker F.28 Mk.0070 and Mk.0100 series airplanes, Gulfstream Aerospace G-IV series airplanes, and Boeing Company 727-100 series airplanes modified in accordance with Supplemental Type Certificate SA8472SW (727-QF).

Unsafe Condition

(d) This AD results from RRD issuing two SBs since AD 2004-05-22 was published, that require repetitive visual inspections of ice-impact panels and defines a minimum configuration and repair standard. We are issuing this AD to prevent release of ice-impact panels due to improper bonding that can result in loss of thrust in both engines.

Compliance

(e) You are responsible for having the actions required by this AD performed within the compliance times specified unless the actions have already been done.

Inspecting Ice-Impact Panels in Tay 620-15, Tay 620-15/20, Tay 650-15, and Tay 650-15/10 Engines

(f) For airplanes that have one Tay 620-15, Tay 620-15/20, Tay 650-15, or Tay 650-15/10 engine with ice-impact panels incorporated by the RR SB No. TAY-72-1326 standard, and not all panels were repaired using polysulfide bonding material by RR repair scheme TV5451R, HRS3491, HRS3615, HRS3648, or HRS3649, do the following:

(1) Within 500 cycles-in-service (CIS) after the effective date of this AD, but no later than February 15, 2005, inspect the ice-impact panels and the surrounding fillers. Use paragraph 3.E. of the Accomplishment Instructions of RRD SB No. TAY-72-1638, Revision 2, dated September 21, 2004, and the inspection disposition criteria in Table 1 of this AD.

Table 1.—Inspection Disposition Criteria
If: | Then:
(a) Any movement or rocking motion of LP compressor ice-impact panel, or any movement of the front edge of ice-impact panel | Before further flight, replace all panels using repair scheme HRS3648 or HRS3649.
(b) Reappearing signs of moisture on the ice-impact panel or the surrounding filler | Before further flight, replace all panels using repair scheme HRS3648 or HRS3649.
(c) Any dents or impact damage on the ice-impact panel that is greater than 3.1 square inch in total | Before further flight, replace the damaged panel using repair scheme HRS3648 or HRS3649.
(d) Any dents or impact damage on the ice-impact panel that is between 1.55 square inch and 3.1 square inch in total | Within 5 flight cycles or 5 flight hours, whichever occurs first, replace the damaged panel using repair scheme HRS3648 or HRS3649.
(e) Any dents or impact damage on the ice-impact panel that is less than 1.55 square inch in total | Within 50 flight cycles or 50 flight hours, whichever occurs first, replace the damaged panel using repair scheme HRS3648 or HRS3649.
(f) Any crack appears on the ice-impact panel and there is visible distortion of the airwashed surface | Within 50 flight cycles or 50 flight hours, whichever occurs first, replace the damaged panel using repair scheme HRS3648 or HRS3649.
(g) Any crack appears on the ice-impact panel and there is no visible distortion of the airwashed surface | Within 150 flight cycles or 150 flight hours, whichever occurs first, replace the damaged panel using repair scheme HRS3648 or HRS3649.
(h) Delamination or peeling of the compound layers of the airwashed surface and the penetrated area is greater than 3.1 square inch in total | Before further flight, replace the damaged panel using repair scheme HRS3648 or HRS3649.
(i) Delamination or peeling of the compound layers of the airwashed surface and the penetrated area is between 1.55 square inch and 3.1 square inch in total | Within 5 cycles or 5 flight hours, whichever occurs first, replace the damaged panel using repair scheme HRS3648 or HRS3649.
(j) Delamination or peeling of the compound layers of the airwashed surface and the penetrated area is less than 1.55 square inch in total | Within 50 cycles or 50 flight hours, whichever occurs first, replace the damaged panel using repair scheme HRS3648 or HRS3649.
(k) Delamination or peeling of the compound layers but the airwashed surface is not penetrated | Within 150 flight cycles or 150 flight hours, whichever occurs first, repair the damaged panel using repair scheme HRS3630.
(l) Missing filler surrounding the LP compressor case | Before further flight, repair the damaged filler using repair scheme HRS3630.
(m) Damage to the filler surrounding the LP compressor case such as chipped, cracked, or missing material | Within 25 flight cycles or 25 flight hours, whichever occurs first, repair damaged filler using repair scheme HRS 3630.

(2) Re-inspect within every 500 cycles-since-last-inspection (CSLI) or two months since-last-inspection, whichever occurs first. Use paragraph 3.E. of the Accomplishment Instructions of RRD SB No. TAY-72-1638, Revision 2, dated September 21, 2004, and the inspection disposition criteria in Table 1 of this AD.

(g) For airplanes that have two Tay 620-15, Tay 620-15/20, Tay 650-15, or Tay 650-15/10 engines with ice-impact panels incorporated by the RR SB No. TAY-72-1326 standard, and not all panels were repaired using polysulfide bonding material by RR repair scheme TV5451R, HRS3491, HRS3615, HRS3648, or HRS3649, do the following:

(1) Before further flight, inspect the ice-impact panels and the surrounding fillers on at least one of the affected engines. Use paragraph 3.E. of the Accomplishment Instructions of RRD SB No. TAY-72-1638, Revision 2, dated September 21, 2004, and the inspection disposition criteria in Table 1 of this AD.

(2) Within 60 CIS after the effective date of this AD, but no later than January 15, 2005, inspect the remaining engine ice-impact panels and the surrounding fillers. Use paragraph 3.E. of the Accomplishment Instructions of RRD SB No. TAY-72-1638, Revision 2, dated September 21, 2004, and the inspection disposition criteria in Table 1 of this AD.

(3) Re-inspect one of the affected engines on the airplane, within every 250 CSLI or one month since-last-inspection, whichever occurs first. Thereafter, alternate the repetitive inspections between the two engines. Use paragraph 3.E. of the Accomplishment Instructions of RRD SB No. TAY-72-1638, Revision 2, dated September 21, 2004, and the inspection disposition criteria in Table 1 of this AD.

(h) Before March 1, 2005, rework all six ice-impact panels using repair scheme HRS3648 or HRS3649 on at least one of the affected engines.

(i) After complying with paragraph (h) of this AD, re-inspect the engine not reworked, using the intervals in paragraph (f)(2) of this AD.

Inspecting Ice-Impact Panels in Tay 651-54 Engines

(j) For airplanes that have one Tay 651-54 engine with ice-impact panels incorporated by the RR SB No. TAY-72-1326 standard, and not all panels were repaired using polysulfide bonding material by RR repair scheme TV5451R, HRS3491, HRS3615, HRS3648, or HRS3649, do the following:

(1) Within 30 CIS after the effective date of this AD, inspect the ice-impact panels and the surrounding fillers on the affected engine. Use paragraph 3.E. of the Accomplishment Instructions of RRD SB No. TAY-72-1638, Revision 2, dated September 21, 2004, and the inspection disposition criteria in Table 1 of this AD.

(2) Re-inspect the affected engine within every 500 CSLI or six months since-last-inspection, whichever occurs first. Use paragraph 3.E. of the Accomplishment Instructions of RRD SB No. TAY-72-1638, Revision 2, dated September 21, 2004, and the inspection disposition criteria in Table 1 of this AD.

(k) For airplanes that have more than one Tay 651-54 engine with ice-impact panels incorporated by the RR SB No. TAY-72-1326 standard, and not all panels were repaired using polysulfide bonding material by RR repair scheme TV5451R, HRS3491, HRS3615, HRS3648, or HRS3649, do the following:

(1) Before further flight, inspect the ice-impact panels and the surrounding fillers on at least one of the engines affected. Use paragraph 3.E. of the Accomplishment Instructions of RRD SB No. TAY-72-1638, Revision 2, dated September 21, 2004, and the inspection disposition criteria in Table 1 of this AD.

(2) Within 30 CIS after the effective date of this AD, inspect the ice-impact panels and the surrounding fillers on the remaining engine. Use paragraph 3.E. of the Accomplishment Instructions of RRD SB No. TAY-72-1638, Revision 2, dated September 21, 2004, and the inspection disposition criteria in Table 1 of this AD.

(3) Re-inspect at least one of the affected engines within every 250 CSLI or three months since-last inspection, whichever occurs first. Use paragraph 3.E of the Accomplishment Instructions of RRD SB No. TAY-72-1638, Revision 2, dated September 21, 2004, and the inspection disposition criteria in Table 1 of this AD.

(l) Before March 1, 2005, rework all six ice-impact panels using RR repair scheme HRS3648 or HRS3649 on at least one of the affected engines.

(m) After complying with paragraph (l) of this AD, re-inspect the engine not reworked, using the intervals in paragraph (j)(2) of this AD.

Repetitive Inspections for Tay 620-15, Tay 620-15/20, Tay 650-15, Tay 650-15/10, and Tay 651-54 Engines With All Ice-impact Panels Repaired by Polysulfide Bonding Material

(n) For Tay 620-15, Tay 620-15/20, Tay 650-15, Tay 650-15/10, and Tay 651-54 engines with ice-impact panels incorporated by the RRD SB No. SB 72-1326 standard, and all panels were repaired using polysulfide bonding material by RR repair scheme TV5451R, HRS3491, HRS3615, HRS3648 or HRS3649, do the following:

(1) Re-inspect within every 1,500 CSLI, for the condition of the ice-impact panels and the surrounding fillers.

(2) Use paragraph 3.E. of the Accomplishment Instructions of RRD SB No. TAY-72-1638, Revision 2, dated September 21, 2004, and the inspection disposition criteria in Table 1 of this AD.

Inspecting Ice-Impact Panels in Tay 611-8 Engines

(o) For airplanes that have one Tay 611-8 engine with ice-impact panels incorporated by the RR SB No. TAY-72-1326 standard, and RR repair scheme HRS3491 or HRS3615 was done with two pack epoxy (Omat 8/52) on one or more of the six ice-impact panels, do the following:

(1) Within 450 flight hours after the effective date of this AD, inspect the ice-impact panels on the affected engine. Use paragraph 3.E. of the Accomplishment Instructions of RRD SB No. TAY-72-1639, Revision 2, dated September 21, 2004, and the inspection disposition criteria in Table 1 of this AD.

(2) Re-inspect the ice impact panels within every 1,000 CSLI or six months since-last-inspection, whichever occurs first, Use paragraph 3.E. of the Accomplishment Instructions of RRD SB No. TAY-72-1639, Revision 2, dated September 21, 2004, and the inspection disposition criteria in Table 1 of this AD.

(p) For airplanes with both Tay 611-8 engines with ice-impact panels incorporated with the RR SB No. TAY-72-1326 standard, and RR repair scheme HRS3491 or HRS3615 was done with two pack epoxy (Omat 8/52) on one or more of the six ice-impact panels on the affected engines, do the following:

(1) Within 150 flight hours after the effective date of this AD, inspect the ice-impact panels on one of the affected engines. Use paragraph 3.E. of the Accomplishment Instructions of RRD SB No. TAY-72-1639, Revision 2, dated September 21, 2004, and the inspection disposition criteria in Table 1 of this AD.

(2) Within 450 flight hours after the effective date of this AD, inspect the ice-impact panels on the remaining engine. Use paragraph 3.E. of the Accomplishment Instructions of RRD SB No. TAY-72-1639, Revision 2, dated September 21, 2004, and the inspection disposition criteria in Table 1 of this AD.

(3) Re-inspect the ice impact panels within every 500 CSLI or three months since-last-inspection, whichever occurs first, Use paragraph 3.E. of the Accomplishment Instructions of RRD SB No. TAY-72-1639, Revision 2, dated September 21, 2004, and the inspection disposition criteria in Table 1 of this AD, on at least one of the affected engines.

(q) Before March 1, 2005, rework all six ice-impact panels using RR repair scheme HRS3648, or HRS3649 on at least one of the affected engines.

(r) After complying with paragraph (q) of this AD, re-inspect the engine not reworked, using the intervals in paragraph (o)(2) of this AD.

Repetitive Inspections for Tay 611-8 Engines With All Ice-impact Panels Repaired by Polysulfide Bonding Material or Introduced Since New Production

(s) For Tay 611-8 engines with ice-impact panels incorporated by the RRD SB No. SB 72-1326 standard and all panels were repaired using polysulfide bonding material by RR repair scheme TV5451R, HRS3491, HRS3615, HRS3648 or HRS3649, or panels were introduced since new production, do the following:

(1) Re-inspect within every 3,000 CSLI, for the condition of the ice-impact panels and the surrounding fillers.

(2) Use paragraph 3.E. of the Accomplishment Instructions of RRD SB No. TAY-72-1638, Revision 2, dated September 21, 2004, and the inspection disposition criteria in Table 1 of this AD.

Installing Engines That Are Not Inspected

(t) After the effective date of this AD, do not install any Tay 620-15, Tay 620-15/20, Tay 650-15, Tay 650-15/10, and Tay 651-54 engines with ice-impact panels if:

(1) Those ice-impact panels incorporate the RR SB No. TAY-72-1326 standard; and

(2) Ice-impact panels were repaired using RR repair scheme TV5451R, HRS3491, or HRS3615 and bonding material other than polysulfide; unless

(3) The panels and the surrounding fillers are inspected for condition using 3.B. through 3.D.(3) (in-service) or 3.K.(1) through 3.(M)(3) (at overhaul or shop visit) of the Accomplishment Instructions of RRD SB No. TAY-72-1638, Revision 2, dated September 21, 2004.

(u) Perform repetitive inspections as specified in paragraph (n) of this AD.

(v) After the effective date of this AD, do not install any Tay 611-8 engine with ice-impact panels if:

(1) Those ice-impact panels incorporate the RR SB No. TAY-72-1326 standard; and

(2) Ice-impact panels were repaired using RR repair scheme TV5451R, HRS3491, or HRS3615 and bonding material other than polysulfide, unless

(3) The panels and the surrounding fillers are inspected for condition using 3.B. through 3.D.(2) (in-service) or 3.K.(1) through 3.M.(3) (at overhaul or shop visit) of the Accomplishment Instructions of RRD SB No. TAY-72-1639, Revision 2, dated September 21, 2004.

(w) Perform repetitive inspections as specified in paragraph (s) of this AD.

Alternative Methods of Compliance

(x) The Manager, Engine Certification Office, has the authority to approve alternative methods of compliance for this AD if requested using the procedures found in 14 CFR 39.19.

Material Incorporated by Reference

(y) You must use the Rolls-Royce service information specified in Table 2 to perform the inspections required by this AD. The Director of the Federal Register approved the incorporation by reference of the documents listed in Table 2 of this AD in accordance with 5 U.S.C. 552(a) and 1 CFR part 51. You can get a copy from Rolls-Royce Deutschland Ltd & Co KG, Eschenweg 11, D-15827 Dahlewitz, Germany; telephone 49 (0) 33-7086-1768; fax 49 (0) 33-7086-3356. You may review copies at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html. Table 2 follows:

Table 2.—Incorporation by Reference
Service information No. | Page | Revision | Date
SB No. TAY-72-1638 | ALL | 2 | Sept. 21, 2004.
Total Pages: 35
SB No. TAY-72-1639 | ALL | 2 | Sept. 21, 2004.
Total Pages: 28
Repair Scheme No. HRS3648 Front Sheet | ALL | 2 | Jan. 28, 2004.
Total Pages: 1
Repair Scheme No. HRS3648 History Sheet | ALL | 2 | Jan. 28, 2004.
Total Pages: 3
Repair Scheme No. HRS3648 | ALL | 2 | Jan. 27, 2004.
Total Pages: 30
Repair Scheme No. HRS3649 Front Sheet | ALL | 2 | Sept. 1, 2004.
Total Pages: 1
Repair Scheme No. HRS3649 History Sheet | ALL | 2 | Sept. 7, 2004.
Total Pages: 3
Repair Scheme No. HRS3649 | ALL | 2 | June 17, 2004.
Total Pages: 24

Related Information

(z) LBA AD D2004-313R2, dated September 21, 2004, also addresses the subject of this AD.

Issued in Burlington, Massachusetts, on December 22, 2004.
Jay J. Pardee,
Manager, Engine and Propeller Directorate, Aircraft Certification Service.

[FR Doc. 05-40 Filed 1-5-05; 8:45 am]

BILLING CODE 4910-13-P